COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agencies.

DATES: Comments must be received on or before: October 21, 2018.

ADDRESSES: Committee for Purchase From People Who Are Blind or Severely Disabled, 1401 S Clark Street, Suite 715, Arlington, Virginia 22202-4149.

FOR FURTHER INFORMATION CONTACT: For further information or to submit comments contact: Amy Jensen, Telephone: (703) 603-2132, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type: Mailroom Service

Mandatory for: Centers for Disease Control & Prevention, National Center for Health Statistics, 3311 Toledo Road, Hyattsville, MD

Mandatory Source of Supply: ServiceSource, Inc., Oakton, VA

Contracting Activity: Centers for Disease Control and Prevention, CDC—PITTSBURG

Deletions

The following products are proposed for deletion from the Procurement List:

Products

NSN(s)—Product Name(s): 5365-01-138-6660—Spacer, Sleeve

Mandatory Source of Supply: Arizona Industries for the Blind, Phoenix, AZ

Contracting Activity: Defense Logistics Agency Troop Support

NSN(s)—Product Name(s):

MR 10681—Bib, Baby, Halloween

MR 10683—Socks, Halloween

MR 10684—Gloves, Halloween

MR 10685—Party Favors, Halloween, Spiders and Webs

MR 10686—Party Favors, Halloween, Witch's Fingers

MR 10687—Party Favors, Halloween, Nose and Glasses

MR 10688—Party Favors, Halloween, Fangs

MR 10689—Party Favors, Halloween, Mini Spiral Note Book

MR 10690—Party Favors, Halloween, Sticky Eyes

MR 10679—Baster, Bottletop

MR 10668—Jar, Drinking, 19 oz., Licensed

MR 10664—Bowl, Cereal and Sipping, Sesame Street

MR 10665—Holder, Juice Box, Sesame Street

MR 385—Kit, Gifts for Santa

Mandatory Source of Supply: Winston-Salem Industries for the Blind, Inc., Winston-Salem, NC

Contracting Activity: Defense Commissary Agency

NSN(s)—Product Name(s): 8475-01-217-7456—Pad, Nape

Mandatory Source of Supply: Cambria County Association for the Blind and Handicapped, Johnstown, PA

Contracting Activity: Defense Logistics Agency Troop Support

NSN(s)—Product Name(s):

8415-01-576-8355—Pants, Loft, Type 2 Level 7, PCU, Army, Woodland Camouflage, XXXLL

8415-01-577-0103—Vest, Loft, Level 7, PCU, Army, Woodland Camouflage, XS

8415-01-576-9714—Vest, Loft, Level 7, PCU, Army, Desert Camouflage, XS

8415-01-576-9978—Vest, Loft, Level 7, PCU, Army, Desert Camouflage, SR

8415-01-576-9990—Vest, Loft, Level 7, PCU, Army, Desert Camouflage, ML

8415-01-576-9992—Vest, Loft, Level 7, PCU, Army, Desert Camouflage, LR

8415-01-577-0052—Vest, Loft, Level 7, PCU, Army, Desert Camouflage, LL

8415-01-577-0058—Vest, Loft, Level 7, PCU, Army, Desert Camouflage, XLL

8415-01-577-0068—Vest, Loft, Level 7, PCU, Army, Desert Camouflage, XXL

8415-01-577-0072—Vest, Loft, Level 7, PCU, Army, Desert Camouflage, XXLL

8415-01-577-0083—Vest, Loft, Level 7, PCU, Army, Desert Camouflage, XXXL

8415-01-577-0100—Vest, Loft, Level 7, PCU, Army, Desert Camouflage, XXXLL

8415-01-576-8700—Jacket, Loft, Level 7, Type 1, ECWCS, PCU, Army, Desert Camouflage, XS

8415-01-576-8704—Jacket, Loft, Level 7, Type 1, ECWCS, PCU, Army, Desert Camouflage, SR

8415-01-576-8708—Jacket, Loft, Level 7, Type 1, ECWCS, PCU, Army, Desert Camouflage, MR

8415-01-576-8713—Jacket, Loft, Level 7, Type 1, ECWCS, PCU, Army, Desert Camouflage, LR

8415-01-576-9193—Jacket, Loft, Level 7, Type 1, ECWCS, PCU, Army, Desert Camouflage, L

8415-01-576-9190—Jacket, Loft, Level 7, Type 1, ECWCS, PCU, Army, Desert Camouflage, ML

8415-01-576-9187—Jacket, Loft, Level 7, Type 1, ECWCS, PCU, Army, Desert Camouflage, XL

8415-01-576-9202—Jacket, Loft, Level 7, Type 1, ECWCS, PCU, Army, Desert Camouflage, XXL

8415-01-576-9231—Jacket, Loft, Level 7, Type 1, ECWCS, PCU, Army, Desert Camouflage, XXLL

8415-01-576-9233—Jacket, Loft, Level 7, Type 1, ECWCS, PCU, Army, Desert Camouflage, XXXL

8415-01-576-9243—Jacket, Loft, Level 7, Type 1, ECWCS, PCU, Army, Desert Camouflage, XXXLL

8415-01-576-7734—Pants, Loft, Type 2 Level 7, PCU, Army, Desert Camouflage, XS

8415-01-576-7751—Pants, Loft, Type 2 Level 7, PCU, Army, Desert Camouflage, SR

8415-01-576-7754—Pants, Loft, Type 2 Level 7, PCU, Army, Desert Camouflage, MR

8415-01-576-7761—Pants, Loft, Type 2 Level 7, PCU, Army, Desert Camouflage, ML

8415-01-576-7769—Pants, Loft, Type 2 Level 7, PCU, Army, Desert Camouflage, LR

8415-01-576-7775—Pants, Loft, Type 2 Level 7, PCU, Army, Desert Camouflage, LL

8415-01-576-7780—Pants, Loft, Type 2 Level 7, PCU, Army, Desert Camouflage, XL

8415-01-576-7943—Pants, Loft, Type 2 Level 7, PCU, Army, Desert Camouflage, XLL

8415-01-576-7945—Pants, Loft, Type 2 Level 7, PCU, Army, Desert Camouflage, XXL

8415-01-576-8329—Pants, Loft, Type 2 Level 7, PCU, Army, Desert Camouflage, XXLL

8415-01-577-0108—Vest, Loft, Level 7, PCU, Army, Woodland Camouflage, SR

8415-01-577-0115—Vest, Loft, Level 7, PCU, Army, Woodland Camouflage, MR

8415-01-577-0120—Vest, Loft, Level 7, PCU, Army, Woodland Camouflage, ML

8415-01-577-0127—Vest, Loft, Level 7, PCU, Army, Woodland Camouflage, LR

8415-01-577-0159—Vest, Loft, Level 7, PCU, Army, Woodland Camouflage, LL

8415-01-577-0163—Vest, Loft, Level 7, PCU, Army, Woodland Camouflage, XL

8415-01-577-0165—Vest, Loft, Level 7, PCU, Army, Woodland Camouflage, XLL

8415-01-577-0167—Vest, Loft, Level 7, PCU, Army, Woodland Camouflage, XXL

8415-01-577-0169—Vest, Loft, Level 7, PCU, Army, Woodland Camouflage, XXLL

8415-01-577-0174—Vest, Loft, Level 7, PCU, Army, Woodland Camouflage, XXXL

8415-01-577-0177—Vest, Loft, Level 7, PCU, Army, Woodland Camouflage, XXXLL

8415-01-576-9249—Jacket, Loft, Type 1 Level 7, PCU, Army, Woodland Camouflage, XS

8415-01-576-9759—Jacket, Loft, Level 7, Type 1, ECWCS, PCU, Army, Woodland Camouflage, SR

8415-01-576-9761—Jacket, Loft, Level 7, Type 1, ECWCS, PCU, Army, Woodland Camouflage, MR

8415-01-576-9764—Jacket, Loft, Level 7, Type 1, ECWCS, PCU, Army, Woodland Camouflage, ML

8415-01-576-9767—Jacket, Loft, Level 7, Type 1, ECWCS, PCU, Army, Woodland Camouflage, LR

8415-01-576-9776—Jacket, Loft, Type 1 Level 7, PCU, Army, Woodland Camouflage, XL

8415-01-576-9781—Jacket, Loft, Type 1 Level 7, PCU, Army, Woodland Camouflage, XLL

8415-01-576-9785—Jacket, Loft, Type 1 Level 7, PCU, Army, Woodland Camouflage, XXL

8415-01-576-9788—Jacket, Loft, Type 1 Level 7, PCU, Army, Woodland Camouflage, XXLL

8415-01-576-9791—Jacket, Loft, Type 1 Level 7, PCU, Army, Woodland Camouflage, XXXL

8415-01-576-9794—Jacket, Loft, Type 1 Level 7, PCU, Army, Woodland Camouflage, XXXLL

8415-01-576-8380—Pants, Loft, Type 2 Level 7, PCU, Army, Woodland Camouflage, XS

8415-01-576-8429—Pants, Loft, Type 2 Level 7, PCU, Army, Woodland Camouflage, SR

8415-01-576-8438—Pants, Loft, Type 2 Level 7, PCU, Army, Woodland Camouflage, MR

8415-01-576-9152—Pants, Loft, Type 2 Level 7, PCU, Army, Woodland Camouflage, LR

8415-01-576-9155—Pants, Loft, Type 2 Level 7, PCU, Army, Woodland Camouflage, LL

8415-01-576-9173—Pants, Loft, Level 7, PCU, Army, Woodland Camouflage, XXL

8415-01-576-9183—Pants, Loft, Level 7, PCU, Army, Woodland Camouflage, XXLL

8415-01-576-9648—Pants, Loft, Level 7, PCU, Army, Woodland Camouflage, XXXL

8415-01-576-9652—Pants, Loft, Level 7, PCU, Army, Woodland Camouflage, XXXLL

8415-01-576-9987—Vest, Loft, Level 7, PCU, Army, Desert Camouflage, MR

8415-01-577-0055—Vest, Loft, Level 7, PCU, Army, Desert Camouflage, XL

8415-01-576-8533—Pants, Loft, Type 2 Level 7, PCU, Army, Woodland Camouflage, ML

8415-01-576-9199—Jacket, Loft, Level 7, Type 1, ECWCS, PCU, Army, Desert Camouflage, XLL

8415-01-576-8344—Pants, Loft, Type 2 Level 7, PCU, Army, Desert Camouflage, XXXL

8415-01-576-9775—Jacket, Loft, Level 7, Type 1, ECWCS, PCU, Army, Woodland Camouflage, LL

8415-00-NSH-3123—Drawers, PCU, Army, Level 1 FR Boxer Shorts, Brown, SR

8415-00-NSH-3124—Drawers, PCU, Army, Level 1 FR Boxer Shorts, Brown, MR

8415-00-NSH-3125—Drawers, PCU, Army, Level 1 FR Boxer Shorts, Brown, LR

8415-00-NSH-3126—Drawers, PCU, Army, Level 1 FR Boxer Shorts, Brown, LL

8415-00-NSH-3127—Drawers, PCU, Army, Level 1 FR Boxer Shorts, Brown, XLR

8415-00-NSH-3128—Drawers, PCU, Army, Level 1 FR Boxer Shorts, Brown, XLL

8415-00-NSH-3129—Drawers, PCU, Army, Level 1 FR Boxer Shorts, Brown, XXLR

8415-01-584-1682—Vest, Loft, Level 7, PCU, Army, Multi Camouflage, XSR

8415-01-584-1686—Vest, Loft, Level 7, PCU, Army, Multi Camouflage, SR

8415-01-584-1696—Vest, Loft, Level 7, PCU, Army, Multi Camouflage, ML

8415-01-584-1709—Vest, Loft, Level 7, PCU, Army, Multi Camouflage, LR

8415-01-584-1712—Vest, Loft, Level 7, PCU, Army, Multi Camouflage, LL

8415-01-584-1734—Vest, Loft, Level 7, PCU, Army, Multi Camouflage, XL

8415-01-584-1722—Vest, Loft, Level 7, PCU, Army, Multi Camouflage, XLL

8415-01-584-1743—Vest, Loft, Level 7, PCU, Army, Multi Camouflage, XXL

8415-01-584-1875—Vest, Loft, Level 7, PCU, Army, Multi Camouflage, XXLL

8415-01-584-1869—Vest, Loft, Level 7, PCU, Army, Multi Camouflage, XXXL

8415-01-584-1865—Vest, Loft, Level 7, PCU, Army, Multi Camouflage, XXXLL

8415-01-584-1923—Jacket, Loft, Type 1 Level 7, PCU, Army, Multi Camouflage, XS

8415-01-584-1930—Jacket, Loft, Type 1 Level 7, PCU, Army, Multi Camouflage, SR

8415-01-584-1975—Jacket, Loft, Type 1 Level 7, PCU, Army, Multi Camouflage, ML

8415-01-584-1995—Jacket, Loft, Type 1 Level 7, PCU, Army, Multi Camouflage, LR

8415-01-584-1997—Jacket, Loft, Type 2 Level 7, PCU, Army, Multi Camouflage, LL

8415-01-584-1918—Jacket, Loft, Type 1 Level 7, PCU, Army, Multi Camouflage, XL

8415-01-584-2005—Jacket, Loft, Type 2 Level 7, PCU, Army, Multi Camouflage, XLL

8415-01-584-2018—Jacket, Loft, Type 1 Level 7, PCU, Army, Multi Camouflage, XXL

8415-01-584-2002—Jacket, Loft, Type 2 Level 7, PCU, Army, Multi Camouflage, XXLL

8415-01-584-2000—Jacket, Loft, Type 1 Level 7, PCU, Army, Multi Camouflage, XXXL

8415-01-584-4410—Pants, Loft, Level 7, PCU, Army, Multi Camouflage, XS

8415-01-584-4418—Pants, Loft, Level 7, PCU, Army, Multi Camouflage, SR

8415-01-584-4421—Pants, Loft, Level 7, PCU, Army, Multi Camouflage, MR

8415-01-584-4424—Pants, Loft, Level 7, PCU, Army, Multi Camouflage, ML

8415-01-584-4426—Pants, Loft, Level 7, PCU, Army, Multi Camouflage, LR

8415-01-584-4431—Pants, Loft, Level 7, PCU, Army, Multi Camouflage, LL

8415-01-584-4441—Pants, Loft, Level 7, PCU, Army, Multi Camouflage, XLL

8415-01-584-4446—Pants, Loft, Level 7, PCU, Army, Multi Camouflage, XXL

8415-01-584-4448—Pants, Loft, Level 7, PCU, Army, Multi Camouflage, XXLL

8415-01-584-4455—Pants, Loft, Level 7, PCU, Army, Multi Camouflage, XXXL

8415-01-584-4462—Pants, Loft, Level 7, PCU, Army, Multi Camouflage, XXXLL

8415-01-584-4434—Pants, Loft, Level 7, PCU, Army, Multi Camouflage, XL

8415-01-584-1692—Vest, Loft, Level 7, PCU, Army, Multi Camouflage, MR

8415-01-584-1971—Jacket, Loft, Type 1 Level 7, PCU, Army, Multi Camouflage, MR

Mandatory Source of Supply: Southeastern Kentucky Rehabilitation Industries, Inc., Corbin, KY

Contracting Activity: Army Contracting Command—Aberdeen Proving Ground, Natick Contracting Division

Patricia Briscoe,
Deputy Director, Business Operations (Pricing and Information Management).

[FR Doc. 2018-20601 Filed 9-20-18; 8:45 am]

BILLING CODE 6353-01-P